DEPARTMENT OF ENERGY

Federal Energy Regulatory Commission

[Project No. 14859-000]

Big Chino Valley Pumped Storage LLC; Notice of Preliminary Permit Application Accepted for Filing and Soliciting Comments, Motions To Intervene, and Competing Applications

On September 29, 2017, Big Chino Valley Pumped Storage LLC (Big Chino) filed an application for a preliminary permit, pursuant to section 4(f) of the Federal Power Act, proposing to study the feasibility of the Big Chino Valley Pumped Storage Project (project) to be located near Chino Valley in Yavapai, Coconino, and Mohave Counties, Arizona. The sole purpose of a preliminary permit, if issued, is to grant the permit holder priority to file a license application during the permit term. A preliminary permit does not authorize the permit holder to perform any land-disturbing activities or otherwise enter upon lands or waters owned by others without the owners' express permission.

The proposed project will be closed-loop. Water to initially fill the reservoirs and required make-up water will be pumped from locally available groundwater sources. The proposed project would consist of an upper and lower reservoir, a 10.1-mile-long water conveyance system connecting the two reservoirs, a powerhouse, and three 500-kV transmission lines. A 2,900-foot-long, 360-foot-high rockfill, concrete-faced dam would be constructed to form the 50-acre upper reservoir, which would have a storage capacity of 19,739-acre-foot at an elevation of 6,560 feet. A 2,700-foot-long, 250-foot-high rockfill, concrete-faced dam would be constructed to form a 50-acre lower reservoir with a storage capacity of 19,811-acre-foot at an elevation of 5,294 feet. Water would be conveyed from the upper reservoir to the lower reservoir via two upper reservoir inlet/outlets, two vertical shafts, two horizontal power tunnels, two penstock manifold tunnels, and eight 12-foot-diameter, steel-lined penstocks. The powerhouse would contain eight pump-turbine/motor-generator units rated at 250 MW each. From the powerhouse, water will discharge into eight, 16-foot diameter draft tubes from each unit and then into two, 32-foot-diameter tailrace tunnels, which will discharge into the lower reservoir through a lower reservoir inlet/outlet structure. Project power would be transmitted through a 30-mile-long 500-kilovolt (kV), line traversing northerly to interconnect with the existing Arizona Public Service owned- and operated Eldorado-Moenkopi 500-kV line or a planned and sited new Dine Navajo Transmission Project 500-kV line from Moenkopi to Marketplace; a 54-mile long 500-kV traversing westerly to interconnect with an existing Western Area Power Administration owned and operated 230-kV line from Prescott to Peacock that would be upgraded to 500 kV; and a 47-mile-long 500-kV line traversing easterly to interconnect with two Navajo Southern Transmission 500-kV lines owned by participants of the Navajo Generating Plant and operated by Arizona Public Service.

The estimated annual generation of the project would be 4,614 gigawatt-hours.

Applicant Contact: Brian Studenka, Director, Grid Development ITC Holdings Corp., 27175 Energy Way, Novi, MI 48377, phone (248) 946-3247; Andrew M. Jamieson, Counsel—Regulatory & Legislative ITC Holdings Corp., 27175 Energy Way, Novi, MI 48377, phone (248) 946-3536; Jay Ryan, Baker Botts L.L.P., The Warner—Suite 1000, 1299 Pennsylvania Avenue NW, Washington, DC 20016, phone (202) 639-7789.

FERC Contact: Kim Nguyen, (202) 502-6105.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14859-000.

More information about this project, including a copy of the application, can be viewed or printed on the eLibrary link of Commission's Web site at http://www.ferc.gov/docs-filing/elibary.asp. Enter the docket number (P-14859) in the docket number field to access the document. For assistance, contact FERC Online Support.

Dated: October 13, 2017.
Nathaniel J. Davis, Sr.,
Deputy Secretary.

[FR Doc. 2017-22656 Filed 10-18-17; 8:45 am]

BILLING CODE 6717-01-P